DEPARTMENT OF HOMELAND SECURITY

Bureau of Customs and Border Protection

Notice of Cancellation of Customs Broker License

AGENCY: Bureau of Customs and Border Protection, U.S. Department of Homeland Security.

ACTION: General Notice.

SUMMARY: Pursuant to section 641 of the Tariff Act of 1930, as amended, (19 U.S.C. 1641) and the Customs Regulations (19 CFR 111.51), the following Customs broker licenses are cancelled without prejudice.

Name | License # | Issuing port
Martin, Kassatly & Company | 13056 | San Francisco.
Cornerstone Logistics, Inc. | 17392 | San Francisco.
Braverman Enterprise, Inc. | 21051 | Los Angeles.
BLG, Inc. | 7360 | New York.
Carol L. Page | 7627 | Seattle.

Dated: April 16, 2007.
Daniel Baldwin,
Assistant Commissioner, Office of International Trade.

[FR Doc. E7-7961 Filed 4-25-07; 8:45 am]

BILLING CODE 9111-14-P